DEPARTMENT OF DEFENSE

Department of the Navy

Information on Surplus Land at a Military Installation Designated for Disposal: Navy Reserve Center, Orange, TX

AGENCY: Department of the Navy, DoD.

ACTION: Notice.

SUMMARY: This notice provides information on the surplus property at Navy Reserve Center, Orange, TX.

FOR FURTHER INFORMATION CONTACT: Ms. Kimberly Kesler, Director, Base Realignment and Closure Program Management Office, 1455 Frazee Road, San Diego, CA 92108-4310, telephone 619-532-0993; or Mr. James E. Anderson, Director, Base Realignment and Closure Management Office, Southeast, 2144 Eagle Drive, North Charleston, SC 29406, telephone 843-820-5809.

SUPPLEMENTARY INFORMATION: In 2005, Navy Reserve Center, Orange, TX was designated for closure under the authority of the Defense Base Closure and Realignment Act of 1990, Public Law 101-510, as amended (the Act). Pursuant to this designation, on January 23, 2006, land and facilities at this installation were declared excess to the Department of Navy (Navy) and available to other Department of Defense components and other Federal agencies. The Navy has evaluated all timely Federal requests and has made a decision on property required by the Federal Government.

Notice of Surplus Property. Pursuant to paragraph (7)(B) of Section 2905(b) of the Act, as amended by the Base Closure Community Redevelopment and Homeless Assistance Act of 1994, the following information regarding the redevelopment authority for surplus property at Naval Reserve Center, Orange, TX is published in the Federal Register.

Redevelopment Authority. The local redevelopment authority for the Navy Reserve Center, Orange, TX is the Orange NRC Local Redevelopment Authority, Orange County Navigation and Port District. The point of contact is Mr. Gene Bouillion, Port Director & CEO, 1201 Childers Rd., P.O. Box 2410, Orange, TX 77631-2410, telephone 409-883-4363.

Surplus Property Description. The following is a list of the land and facilities at Navy Reserve Center, Orange, Texas, that are surplus to the needs of the Federal Government.

a. Land. Navy Reserve Center, Orange, TX consists of approximately 13.73 acres of improved fee simple land located within Orange County and the City of Orange. In general, the entire area will be available when the installation closes in September 2008.

b. Buildings. The following is a summary of the buildings and other improvements located on the above-described land that will also be available when the installation closes. Property numbers are available on request.

(1) Administrative/Training facilities (6 structures). Comments: Approximately 55,700 square feet.

(2) Storage Facility (1 structure). Comments: Approximately 500 square feet.

(3) Paved areas (roads and surface areas). Comments: Approximately 12,600 square yards consisting of roads and other surface areas, i.e., sidewalks, parking lots, etc).

(4) Pier. Comments: Approximately 1300 square yards.

Redevelopment Planning. Pursuant to Section 2905(b)(7)(F) of the Act, the Orange NRC Local Redevelopment Authority (the LRA) will conduct a community outreach effort with respect to the surplus property and will publish, within 30 days of the date of this notice, in a newspaper of general circulation in the communities within the vicinity of Navy Reserve Center, Orange, TX the time period during which the LRA will receive notices of interest from State and local governments, representatives of the homeless, and other interested parties. This publication shall include the name, address, telephone number, and the point of contact for the LRA who can provide information on the prescribed form and contents of the notices of interest.

Dated: May 3, 2006.
Eric McDonald,
Lieutenant Commander, Judge Advocate General's Corps, U.S. Navy, Federal Register Liaison Officer.

[FR Doc. E6-7089 Filed 5-9-06; 8:45 am]

BILLING CODE 3810-FF-P